DEPARTMENT OF ENERGY

[OE Docket No. EA-289-D]

Application to Export Electric Energy; Intercom Energy, Inc.

AGENCY: Office of Electricity, Department of Energy.

ACTION: Notice of application.

SUMMARY: Intercom Energy, Inc. (Applicant or Intercom) has applied for authorization to transmit electric energy from the United States to Mexico pursuant to the Federal Power Act.

DATES: Comments, protests, or motions to intervene must be submitted on or before June 28, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On May 17, 2021, Intercom filed an application with DOE (Application or App.) to transmit electric energy from the United States to Mexico for a term of five years. Intercom states that it “is a California corporation with its principal place of business in San Diego, California.” App. at 2. Intercom further represents that it “is a wholly-owned subsidiary of Intercom Energy USA, Inc. (“Intercom USA”), which is a California company with its principal place of business in San Diego, California.” Id. Intercom represents that it “does not own, control or operate any electric generation, distribution or transmission assets or natural gas transportation or distribution assets in the United States or Mexico.” Id.

Intercom further states that it “will purchase the electric energy to be exported to Mexico from electric utilities and federal power marketing agencies as those terms are defined in Sections 3(22) and 3(19) of the Federal Power Act.” App. at 6. Intercom contends that its proposed exports “will not impair or have an adverse consequence on the sufficiency or operation of the electric power system and regional transmission systems within the United States or on the maintenance of adequate generation resources in the United States” since by definition this power is surplus to the system Id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Intercom's application to export electric energy to Mexico should be clearly marked with OE Docket No. EA-289-D. Additional copies are to be provided directly to Ernesto Pallares, 2436 A Street, Suite C, San Diego, CA 92102, ernest.pall@intercom-energy.com; William DeGrandis, 2050 M Street NW, Washington, DC 20036, billdegrandis@paulhastings.com; Jenna McGrath, 2050 M Street NW, Washington, DC 20036, jennamcgrath@paulhastings.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at http://energy.gov/node/11845, or by emailing Matt Aronoff at matthew.aronoff@hq.doe.gov.

Signed in Washington, DC, on May 25, 2021.
Christopher Lawrence,
Management and Program Analyst, Energy Resilience Division, Office of Electricity.

[FR Doc. 2021-11340 Filed 5-27-21; 8:45 am]

BILLING CODE 6450-01-P